DEPARTMENT OF COMMERCE

Foreign-Trade Zones Board

[B-51-2020]

Foreign-Trade Zone 29—Louisville, Kentucky, Application for Expansion Under Alternative Site Framework

An application has been submitted to the Foreign-Trade Zones (FTZ) Board by the Louisville & Jefferson County Riverport Authority, grantee of FTZ 29, requesting authority to expand Site 15 of FTZ 29 under the Alternative Site Framework (ASF) in Shepherdsville, Kentucky. The application was submitted pursuant to the provisions of the Foreign-Trade Zones Act, as amended (19 U.S.C. 81a-81u), and the regulations of the FTZ Board (15 CFR part 400). It was formally docketed on August 5, 2020.

FTZ 29 was approved by the FTZ Board on May 26, 1977 (Board Order 118, 42 FR 29323; June 8, 1977) and reorganized under the ASF on October 25, 2018 (Board Order 2070, 83 FR 54709-54710, October 31, 2018). The zone currently has a service area that includes Anderson, Breckinridge, Bullitt, Butler, Carroll, Crittenden, Daviess, Franklin, Hancock, Henderson, Henry, Hopkins, Jefferson, McLean, Meade, Muhlenberg, Nelson, Ohio, Oldham, Shelby, Spencer, Trimble, Union, Webster, and Woodford Counties, Kentucky.

The applicant is requesting authority to expand existing magnet Site 15 (Cedar Grove Business Park) to include an additional 264.5 acres. No authorization for production activity is being requested at this time. Such requests would be made to the FTZ Board on a case-by-case basis.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is October 13, 2020. Rebuttal comments in response to material submitted during the foregoing period may be submitted during the subsequent 15-day period to October 26, 2020.

A copy of the application will be available for public inspection in the “Reading Room” section of the FTZ Board's website, which is accessible via www.trade.gov/ftz.

For further information, contact Elizabeth Whiteman at Elizabeth.Whiteman@trade.gov or (202) 482-0473.

Dated: August 6, 2020.
Andrew McGilvray,
Executive Secretary.

[FR Doc. 2020-17472 Filed 8-10-20; 8:45 am]

BILLING CODE 3510-DS-P